ENVIRONMENTAL PROTECTION AGENCY

40 CFR Part 62

[EPA-R01-OAR-2012-0707; A-1-FRL-9908-36-Region 1]

Approval and Promulgation of State Plans (Negative Declarations) for Designated Facilities and Pollutants: Connecticut, Maine, New Hampshire, and Vermont; Withdrawal of State Plan for Designated Facilities and Pollutants: New Hampshire; Technical Corrections to Approved State Plans (Negative Declarations): Rhode Island and Vermont

AGENCY: Environmental Protection Agency (EPA).

ACTION: Proposed rule.

SUMMARY: The Environmental Protection Agency (EPA) is proposing to approve negative declarations for hospital/medical/infectious waste incinerators (HMIWI) for the State of Connecticut and the State of New Hampshire and negative declarations for sewage sludge incinerators (SSI) for the State of Maine and the State of Vermont. EPA is also proposing to approve the withdrawal of a previously-approved State Plan for HMIWI in the State of New Hampshire. Lastly, EPA is proposing technical corrections to Clean Air Act Sections 111(d) and 129 State Plan (Negative Declaration) approvals for Other Solid Waste Incinerators (OSWI) for the State of Rhode Island and the State of Vermont.

DATES: Written comments must be received on or before April 24, 2014.

ADDRESSES: Submit your comments, identified by Docket ID Number EPA-R01-OAR-2012-0707 by one of the following methods:

1. www.regulations.gov: Follow the on-line instructions for submitting comments.

2. Email: mcdonnell.ida@epa.gov.

3. Fax: (617) 918-0653.

4. Mail: “Docket Identification Number EPA-R01-OAR-2013-0109”, Ida McDonnell, U.S. Environmental Protection Agency, EPA New England Regional Office, Office of Ecosystem Protection, Air Permits, Toxic, & Indoor Programs Unit, 5 Post Office Square—Suite 100, (Mail code OEP05-2), Boston, MA 02109-3912.

5. Hand Delivery or Courier. Deliver your comments to: Ida McDonnell, U.S. Environmental Protection Agency, EPA New England Regional Office, Office of Ecosystem Protection, Air Permits, Toxic, & Indoor Programs Unit, 5 Post Office Square—Suite 100, (Mail code OEP05-2), Boston, MA 02109-3912. Such deliveries are only accepted during the Regional Office's normal hours of operation. The Regional Office's official hours of business are Monday through Friday, 8:30 a.m. to 4:30 p.m., excluding legal holidays.

Please see the direct final rule which is located in the Rules Section of this Federal Register for detailed instructions on how to submit comments.

FOR FURTHER INFORMATION CONTACT: Patrick Bird, Air Permits, Toxic, & Indoor Programs Unit, Air Programs Branch, Office of Ecosystem Protection, U.S. Environmental Protection Agency, Region 1, 5 Post Office Square, Mail Code: OEP05-2, Boston, MA, 02109-0287. The telephone number is (617) 918-1287. Mr. Bird can also be reached via electronic mail at bird.patrick@epa.gov.

SUPPLEMENTARY INFORMATION: In the Final Rules Section of this Federal Register, EPA is approving the State's State Plan revisions as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: February 27, 2014.
H. Curtis Spalding,
Regional Administrator, EPA New England.

[FR Doc. 2014-06380 Filed 3-24-14; 8:45 am]

BILLING CODE 6560-50-P